DEPARTMENT OF VETERANS AFFAIRS

[OMB Control No. 2900-0822]

Information Collection (Reimbursement of Certain Medical Expenses for Camp Lejeune Family Members)

AGENCY: Department of Veterans Affairs.

ACTION: Notice; correction

SUMMARY: The Department of Veterans Affairs (VA) published a collection of information notice in a Federal Register on December 23, 2014, that contained errors. The notice incorrectly stated the summary and the abstract. This document corrects the errors by updating the abstract and summary.

FOR FURTHER INFORMATION CONTACT: Crystal Rennie, Enterprise Records Service (005R1B), Department of Veterans Affairs, 810 Vermont Avenue NW., Washington, DC 20420, at 202-632-7492.

Correction

In FR Doc. 2014-29931, published on December 23, 2014, at 79 FR 77096, make the following correction. On page 77096, in the first column, the SUMMARY should read as follows:

“The Veterans Health Administration (VHA) is announcing an opportunity for public comment on the proposed collection of certain information by the agency. Under the Paperwork Reduction Act (PRA) of 1995, Federal agencies are required to publish notice in the Federal Register concerning each proposed collection of information, including each proposed revised collection, and allow 60 days for public comment in response to the notice. This notice solicits comments on information needed to furnish hospital care and medical services to the family members of certain veterans who were stationed at Camp Lejeune. In order to furnish such care, VA must collect certain information from the family members to ensure that they meet the requirements of the law. The specific hospital care and medical services that VA must provide are for a number of illnesses and conditions connected to exposure to contaminated drinking water while at Camp Lejeune.”

The Abstract should read as follows:

“Under 38 U.S.C. 1787, VA is required to furnish hospital care and medical services to the family members of certain veterans who were stationed at Camp Lejeune between 1957 and 1987. In order to furnish such care, VA must collect certain information from the family members to ensure that they meet the requirements of the law. VA cannot furnish the statutorily-mandated hospital care and medical services until the collection of information is approved. The specific hospital care and medical services that VA must provide are for a number of illnesses and conditions connected to exposure to contaminated drinking water while at Camp Lejeune.”

Dated: January 20, 2015.
By direction of the Secretary.
Crystal Rennie,
Department Clearance Officer, Department of Veterans Affairs.

[FR Doc. 2015-01130 Filed 1-22-15; 8:45 am]

BILLING CODE 8320-01-P